DEPARTMENT OF HEALTH AND HUMAN SERVICES

National Institutes of Health

Proposed Collection; 60-Day Comment Request; Generic Clearance To Collect Research or Educational Tools and Resources (Office of the Director)

AGENCY: National Institutes of Health, HHS.

ACTION: Notice.

SUMMARY: In compliance with the requirement of the Paperwork Reduction Act of 1995 to provide opportunity for public comment on proposed data collection projects, the National Institutes of Health Office of the Director (OD) will publish periodic summaries of propose projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Mikia Currie, Chief, Project Clearance Branch (PCB), Office of Policy and Extramural Research Administration (OPERA), Office of the Director (OD), Office of Extramural Research (OER), 6705 Rockledge Drive, Bethesda, Maryland 20892 MSC 7980, or call non-toll-free number (301) 435-0941 or Email your request, including your address to: ProjectClearanceBranch@mail.nih.gov. Formal requests for additional plans and instruments must be requested in writing.

SUPPLEMENTARY INFORMATION: Section 3506(c)(2)(A) of the Paperwork Reduction Act of 1995 requires: Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: Generic Clearance to Collect Research or Educational Tools and Resources, 0925-NEW, exp., date XX/XX/XXXX, Project Clearance Branch (PCB), Office of Policy and Extramural Research Administration (OPERA), Office of the Director (OD), Office of Extramural Research (OER) National Institutes of Health (NIH).

Need and Use of Information Collection: The purpose of this generic is to allow for the collection of information that exist outside the currently approved NIH generics, OMB control numbers #0925-0740 titled, “Conference, Meeting, Workshop, and Poster Session Registration and #0925-0648 titled, “Generic Clearance for the Collection of Qualitative Feedback on Agency Service Delivery.” The purpose of this information collection is to collect and disseminate NIH-identified resources more broadly to the public, on Institutes and Centers' (ICs) websites, and/or collect information for agency internal use to improve scientific and related practices and/or assist in scientific reviews (e.g., to understand the use of research or educational resources and resource limitations, to promote scientific and pubic collaboration, public dissemination, and program guidance.) NIH plans to collect researcher and educational information, related administrative or operational information, and related project information in order to share widely with a range of audiences such as researchers, patients and advocates, and the general public. The primary purpose of information collections under this generic is to identify and ultimately promote interdisciplinary research, best practices, and collaboration among academia, industry, non-profit, and other public actors. The various types of information collected through this clearance may include soliciting names from the public, relevant communities of practice, or within NIH to recruit appropriate scientific expertise. Requests to the public may include requests to identify and/or describe extramural research, research tools, or existing resources. Requests for population characteristics within crowdsourcing mechanisms may include institutional affiliation and career level/stage. This will allow ICs to determine which functionalities are typically used, assess engagement and population characteristics of communities of practice, and prioritize investments and design future improvements for related tools and resources.

OMB approval is requested for 3 years. There are no costs to respondents other than their time. The total estimated annualized burden hours are 18,601.

Estimated Annualized Burden Hours
Category of respondent | Number of respondents | Number of responses per respondent | Time per response (in hours) | Total hours
Call for Nominations/Resources | 1,000 | 1 | 10/60 | 167
Recommendations of scientific reviewers | 1,000 | 1 | 5/60 | 83
Crowdsourcing requests | 1,000 | 1 | 10/60 | 17
Request for Population Characteristics | 20,000 | 1 | 5/60 | 1,667
Repository of Tools and Best Practices | 100,000 | 1 | 10/60 | 16,667
Total |  | 123,000 |  | 18,601

Dated: September 28, 2019.
Lawrence Tabak,
Principal Deputy Director, National Institutes of Health.

[FR Doc. 2019-21694 Filed 10-3-19; 8:45 am]

BILLING CODE 4140-01-P